DEPARTMENT OF DEFENSE

Department of the Air Force

[Docket ID USAF-2009-0008]

Privacy Act of 1974; System of Records

AGENCY: Department of the Air Force, DoD.

ACTION: Notice to Alter a System of Records.

SUMMARY: The Department of the Air Force proposes to alter a system of records to its inventory of record systems subject to the Privacy Act of 1974 (5 U.S.C. 552a), as amended.

DATES: The proposed action will be effective on February 23, 2009 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on January 13, 2009, to the House Committee on Oversight and Government Reform, the Senate Committee on Homeland Security and Governmental Affairs, and the Office of Management and Budget (OMB) pursuant to paragraph 4c of Appendix I to OMB Circular No. A-130, ‘Federal Agency Responsibilities for Maintaining Records About Individuals,' dated February 8, 1996, (February 20, 1996, 61 FR 6427).

Dated: January 13, 2009.
Morgan E. Frazier,
Alternate OSD Federal Register Liaison Officer, Department of Defense.

F036 AF DP G

System name:

Military Equal Opportunity and Treatment (January 28, 2002, 67 FR 3883).

Changes:

* * * * *

System Name:

Delete entry and replace with “Equal Opportunity and Sexual Assault Prevention and Response Records.”

* * * * *

Categories of individuals covered by the system:

Delete entry and replace with “Department of Defense (DoD) military Component Active Duty, Reserve and Guard personnel; civilian employees; and members of the public involved in complaints or investigations relating to the Equal Opportunity and Sexual Assault Prevention and Response Programs.”

Categories of records in the system:

Delete entry and replace with “Complainant's full name, Social Security Number (SSN), correspondence and records concerning incidents or complaint data, endorsements and recommendations, formal and informal complaints of unlawful discrimination, sexual harassment, sexual assault, and clarifications/investigations concerning aspects of equal opportunity or sexual assault. Records/forms necessary to conduct background checks for Sexual Assault Response personnel/volunteers.”

Authority for maintenance of the system:

Delete entry and replace with “10 U.S.C. 8013, Secretary of the Air Force; Pub. L. 105-85, section 591; AFPD 36-27, Social Actions; Air Force Instruction 36-2706, Military Equal Opportunity and Treatment Program; For Sexual Assault: Pub L. 108-375, as amended and supplemented, October 28, 2004, Section 577(e); AFPD 36-60, Sexual Assault Prevention and Response (SAPR) Program and E.O. 9397 (SSN).”

Purpose(s):

Delete entry and replace with “To investigate and resolve complaints of unlawful discrimination and sexual harassment under the Equal Opportunity Program, and to maintain records created as a result of the filing of allegations and appeals involving unlawful discrimination because of race, color, religion, sex, or national origin. To assist and provide victim services to victims of sexual assault under the Sexual Assault Prevention and Response Program, and to maintain records created as a result of restricted or unrestricted reporting of allegations of sexual assault under the Sexual Assault Prevention and Response Program.

To conduct necessary background checks of Sexual Assault Prevention and Response Program volunteers/personnel.

To report information as required by the FY 98 National Defense Authorization Act, and used as a data source for descriptive statistics.”

Routine uses of records maintained in the system, including categories of users and the purposes of such uses:

Delete entry and replace with “In addition to those disclosures generally permitted under 5 U.S.C. 552a(b) of the Privacy Act, these records or information contained therein may specifically be disclosed outside the DoD as a routine use pursuant to 5 U.S.C. 552a(3) as follows:

In cases of confirmed sexual harassment, identification of complainant and offender will be provided to congressional committees as required by the FY 98 National Defense Authorization Act. In cases of unrestricted or restricted reports, release of identification of complainant and offender may be provided for official purposes consistent with guidance from the DoD Sexual Assault Prevention and Response Office.

The DoD ‘Blanket Routine Uses’ published at the beginning of the Air Force's compilation of systems of records notices apply to this system.”

* * * * *

Storage:

Delete entry and replace with “Paper records in file folders and on computer electronic files and computer output products.”

Retrievability:

Delete entry and replace with “Retrieved by complainant's name, and/or Social Security Number.”

Safeguards:

Delete entry and replace with “Paper records are maintained in locked file cabinets, locked desk drawers or locked offices. Computer records are password protected and limited to personnel authorized access to the records in order to accomplish their official duties; encryption of information in the records may also be required. Records are also accessed by personnel responsible for servicing the records in performance of their official duties who are properly screened and cleared for need-to-know.”

* * * * *

System manager(s) and addresses:

Delete entry and replace with “Air Force Equal Opportunity Office (AF/A1Q), 1040 Air Force Pentagon, Washington DC 20330-1040.

Air Force Sexual Assault Prevention and Response Office (AF/A1SF), 1040 Air Force Pentagon, Washington DC 20330-1040.”

Notification procedures:

Delete entry and replace with “Individuals seeking to determine whether this system of records contains information on themselves should address written inquiries to Air Force Equal Opportunity (AF/A1Q), 1040 Air Force Pentagon, Washington DC 20330-1040 or Air Force Sexual Assault Prevention and Response (AF/A1SF), 1040 Air Force Pentagon, Washington DC 20330-1040. Official mailing addresses are published as an appendix to the Air Force's compilation of systems of records notices.

Individuals should provide their full name, Social Security Number (SSN) and notarized signature.”

Record access procedures:

Delete entry and replace with “Individuals seeking access to records about themselves contained in this system should address written requests to Air Force Equal Opportunity (AF/A1Q), 1040 Air Force Pentagon, Washington DC 20330-1040 or Air Force Sexual Assault Prevention and Response (AF/A1SF), 1040 Air Force Pentagon, Washington DC 20330-1040. Official mailing addresses are published as an appendix to the Air Force's compilation of systems of records notices.

Individuals should provide their full name, Social Security Number (SSN) and notarized signature.”

Contesting record procedures:

Delete entry and replace with “The Air Force rules for accessing records, and for contesting contents and appealing initial agency determinations are published in Air Force Instruction 33-332; 32 CFR part 806b; or may be obtained from the system manager.”

Record source categories:

Delete entry and replace with “Information obtained from the complainants and alleged victims, witnesses and other individuals, investigative reports, DoD and Component records and reports.”

* * * * *

F036 AF DP G

System name:

Equal Opportunity and Sexual Assault Prevention and Response Records.

System location:

Headquarters United States Air Force, headquarters of major commands, Numbered Air Forces, field operating agencies, direct reporting units; headquarters of combatant commands for which Air Force is Executive Agent, and all Air Force installations and units. Official mailing addresses are published as an appendix to the Air Force's compilation of systems of records notices.

Categories of individuals covered by the system:

Department of Defense (DoD) military Component Active Duty, Reserve and Guard personnel; civilian employees and members of the public involved in complaints or investigations relating to the Equal Opportunity and Sexual Assault Prevention and Response Programs.

Categories of records in the system:

Complainant's full name, Social Security Number (SSN), correspondence and records concerning incidents or complaint data, endorsements and recommendations, formal and informal complaints of unlawful discrimination, sexual harassment, sexual assault, and clarifications/investigations concerning aspects of equal opportunity or sexual assault. Records/forms necessary to conduct background checks for Sexual Assault Response personnel/volunteers.

Authority for maintenance of the system:

10 U.S.C. 8013, Secretary of the Air Force; Pub. L. 105-85, section 591; AFPD 36-27, Social Actions; Air Force Instruction 36-2706, Military Equal Opportunity and Treatment Program; For Sexual Assault: Pub L. 108-375, as amended and supplemented, October 28, 2004, Section 577(e); AFPD 36-60, Sexual Assault Prevention and Response (SAPR) Program and E.O. 9397 (SSN).

Purpose(s):

To investigate and resolve complaints of unlawful discrimination and sexual harassment under the Equal Opportunity Program, and to maintain records created as a result of the filing of allegations and appeals involving unlawful discrimination because of race, color, religion, sex, or national origin. To assist and provide victim services to victims of sexual assault under the Sexual Assault Prevention and Response Program, and to maintain records created as a result of restricted or unrestricted reporting of allegations of sexual assault under the Sexual Assault Prevention and Response Program.

To conduct necessary background checks of Sexual Assault Prevention and Response Program volunteers/personnel.

To report information as required by the FY 98 National Defense Authorization Act, and used as a data source for descriptive statistics.

Routine uses of records maintained in the system, including categories of users and the purposes of such uses:

In addition to those disclosures generally permitted under 5 U.S.C. 552a(b) of the Privacy Act, these records or information contained therein may specifically be disclosed outside the DoD as a routine use pursuant to 5 U.S.C. 552a(3) as follows:

In cases of confirmed sexual harassment, identification of complainant and offender will be provided to congressional committees as required by the FY 98 National Defense Authorization Act. In cases of unrestricted or restricted reports, release of identification of complainant and offender may be provided for official purposes consistent with guidance from the DoD Sexual Assault Prevention and Response Office.

The DoD “Blanket Routine Uses” published at the beginning of the Air Force's compilation of systems of records notices apply to this system.

Policies and practices for storing, retrieving, accessing, retaining, and disposing of records in the system:

Storage:

Paper records in file folders and electronic storage media.

Retrievability:

By complainant's name and/or Social Security Number.

Safeguards:

Paper records are maintained in locked file cabinets, locked desk drawers or locked offices. Computer records are password protected and limited to personnel authorized access to the records in order to accomplish their official duties; encryption of information in the records may also be required. Records are also accessed by personnel responsible for servicing the records in performance of their official duties who are properly screened and cleared for need-to-know.

Retention and disposal:

Retained for two years and then destroyed.

System manager(s) and addresses:

Air Force Equal Opportunity Office (AF/A1Q), 1040 Air Force Pentagon, Washington DC 20330-1040.

Air Force Sexual Assault Prevention and Response Office (AF/A1SF), 1040 Air Force Pentagon, Washington DC 20330-1040.

Notification procedures:

Individuals seeking to determine whether this system of records contains information on themselves should address written inquiries to Air Force Equal Opportunity (AF/A1Q), 1040 Air Force Pentagon, Washington DC 20330-1040 or Air Force Sexual Assault Prevention and Response (AF/A1SF), 1040 Air Force Pentagon, Washington DC 20330-1040. Official mailing addresses are published as an appendix to the Air Force's compilation of systems of records notices.

Individuals should provide their full name, Social Security Number (SSN) and notarized signature.

Record access procedures:

Individuals seeking access to records about themselves contained in this system should address written requests to Air Force Equal Opportunity (AF/A1Q), 1040 Air Force Pentagon, Washington DC 20330-1040 or Air Force Sexual Assault Prevention and Response (AF/A1SF), 1040 Air Force Pentagon, Washington DC 20330-1040. Official mailing addresses are published as an appendix to the Air Force's compilation of systems of records notices.

Individuals should provide their full name, Social Security Number (SSN) and notarized signature.

Contesting record procedures:

The Air Force rules for accessing records, and for contesting contents and appealing initial agency determinations are published in Air Force Instruction 33-332; 32 CFR part 806b; or may be obtained from the system manager.

Record source categories:

Information obtained from the complainants and alleged victims, witnesses and other individuals, investigative reports, DoD and Component records and reports.

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

An exemption rule for this record system has been promulgated in accordance with the requirements of 5 U.S.C. 553(b)(1), (2), and (3), (c) and (e) and published in 32 CFR part 806b. For additional information contact the system manager.

[FR Doc. E9-1245 Filed 1-21-09; 8:45 am]

BILLING CODE 5001-06-P